DEPARTMENT OF COMMERCE

National Oceanic and Atmospheric Administration

[RTID 0648-XA641]

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet via webconference November 30, 2020 through December 12, 2020.

DATES: The Council's Scientific and Statistical Committee (SSC) will begin at 8 a.m. on Monday, November 30, 2020 and continue through Friday, December 4, 2020. The Council's Advisory Panel (AP) will begin at 8 a.m.on Monday, November 30, 2020 and continue through Saturday, December 5, 2020. The Charter Halibut Management Committee will meet on Monday, November 30, 2020, from 1 p.m. to 5 p.m. The Council will meet on Friday, December 4, 2020, from 8 a.m. to 5 p.m., and from 8 a.m. to 5 p.m. on Monday, December 7, 2020 through Saturday, December 12, 2020. All times listed are Alaska Standard Time.

ADDRESSES: The meetings will be by webconference. Join online through the links at https://www.npfmc.org/upcoming-council-meetings.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; email: diana.evans@noaa.gov. For technical support please contact our administrative staff, email: npfmc.admin@noaa.gov.

SUPPLEMENTARY INFORMATION:

Agenda

Monday, November 30, 2020

The Charter Halibut Management Committee will review and recommend management measures for the charter halibut fisheries in International Pacific Halibut Commission (IPHC) areas 2C and 3A for implementation in 2021, and other business. The agenda is subject to change, and the latest version will be posted at https://meetings.npfmc.org/Meeting/Details/1785 prior to the meeting, along with meeting materials.

Monday, November 30, 2020 Through Friday, December 4, 2020

The SSC agenda will include the following issues:

(1) BSAI Groundfish Harvest—Ecosystem Status Report, Final Specifications, Plan Team Report

(2) GOA Groundfish Harvest—Ecosystem Status Report, Final Specifications, Plan Team Report

(3) BSAI Pacific Cod Pot Catcher Processor Latency—Initial Review

(4) 2021 Survey Planning—AFSC Report

The agenda is subject to change, and the latest version will be posted at https://meetings.npfmc.org/Meeting/Details/1784 prior to the meeting, along with meeting materials.

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

Monday, November 30, 2020 Through Saturday, December 5, 2020

The Advisory Panel agenda will include the following issues:

(1) Cook Inlet Salmon FMP—Final Action

(2) BSAI Pacific Cod Trawl Catcher Vessel Limited Access Privilege Program

(3) Charter Halibut 2021 Annual Management Measures, Committee Report

(4) BSAI Pacific Cod Trawl Catcher Processor Latency—Initial Review

(5) 2021 Survey Planning—AFSC Report

(6) BSAI Groundfish Harvest—Ecosystem Status Report, Final Specifications, Plan Team Report

(7) GOA Groundfish Harvest—Ecosystem Status Report, Final Specifications, Plan Team Report

(8) Staff Tasking

Friday, December 4, 2020

The Council agenda will include the following issues. The Council may take appropriate action on any of the issues identified.

(1) All B Reports (Executive Director, NMFS Management, NOAA GC, NOAA Enforcement, AFSC, ADF&G, USCG, USFWS)

(2) Charter Halibut—2021 Annual Management Measures, Committee Report

Monday, December 7, 2020 Through Saturday, December 12, 2020

The Council agenda will include the following issues. The Council may take appropriate action on any of the issues identified.

(3) Cook Inlet Salmon FMP—Final Action

(4) BSAI Pacific Cod Trawl Catcher Vessel Limited Access Privilege Program

(5) BSAI Groundfish Harvest—Ecosystem Status Report, Final Specifications, Plan Team Report

(6) GOA Groundfish Harvest—Ecosystem Status Report, Final Specifications, Plan Team Report (including SSC report)

(7) BSAI Pacific Cod Pot Catcher Processor Latency—Initial Review

(8) Staff Tasking

Connection Information

You can attend the meeting online using a computer, tablet, or smart phone; or by phone only. Connection information will be posted online at: https://www.npfmc.org/upcoming-council-meetings. For technical support please contact our administrative staff, email: npfmc.admin@noaa.gov.

Public Comment

Public comment letters will be accepted and should be submitted electronically through the links at https://www.npfmc.org/upcoming-council-meetings, or for the Charter Halibut Management Committee, at https://meetings.npfmc.org/Meeting/Details/1785. The Council strongly encourages written public comment for this meeting, to avoid any potential for technical difficulties to compromise oral testimony. The deadline for written comments is November 27, 2020, at 5 p.m. Alaska Time.

Authority: 16 U.S.C. 1801 et seq.

Dated: November 10, 2020.
Diane M. DeJames-Daly,
Acting Deputy Director, Office of Sustainable Fisheries, National Marine Fisheries Service.

[FR Doc. 2020-25230 Filed 11-13-20; 8:45 am]

BILLING CODE 3510-22-P